CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled AmeriCorps*VISTA Concept Paper and AmeriCorps*VISTA Project Application to the Office of Management and Budget (OMB) for review and approval in accordance with the Paperwork Reduction Act of 1995, Pub. L. 104-13, (44 U.S.C. Chapter 35). Copies of this ICR, with applicable supporting documentation, may be obtained by calling the Corporation for National and Community Service, Ms. Alison Fritz at (202) 606-5000, ext. 233. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on July 16, 2004. This comment period ended September 14, 2004 and resulted in one comment being received. The comment indicated that the burden hours estimate of four (4) was low for the project application, and a suggestion was made to change the number of burden hours to twelve (12). This year, we are adding performance measurement as an application requirement, which, based on a pilot of this effort, has an impact upon the burden hours. Following consultation with program management staff with daily oversight over the applications, and with representatives of organizations routinely asked to fill out the applications, a determination was made to increase the estimated burden hours to nine (9) hours as an appropriate estimate of the average number of hours needed to complete the proposed application.

Description: AmeriCorps*VISTA requires all applicant organizations to submit a Concept Paper and if approved, a Project Application including a budget when applying for AmeriCorps*VISTA resources.

Type of Review: Revision of a currently-approved collection.

Agency: Corporation for National and Community Service.

Titles: AmeriCorps*VISTA Concept Paper and AmeriCorps*VISTA Application.

OMB Number: 3045-0038.

Agency Numbers: CNS1421a (concept paper) and CNS1421b (project application).

Affected Public: Eligible applicants for funding with the Corporation.

Total Respondents: 1700 for concept paper and 1500 for project application.

Frequency: Once for concept paper and annually for project application.

Average Time Per Response: 1.5 hours for concept paper and 9 hours for project application.

Estimated Total Burden Hours: 16,050 total (2550 hours for concept paper and 13,500 hours for project application).

Total Burden Cost (capital/startup): None.

Total Burden Cost (operating/maintenance): None.

Dated: October 19, 2004.
Howard Turner,
Acting Director, AmeriCorps*VISTA.

[FR Doc. 04-24012 Filed 10-26-04; 8:45 am]

BILLING CODE 6050-$$-P